Executive Order 13375 of April 1, 2005

Amendment to Executive Order 13295 Relating to Certain

Influenza Viruses and Quarantinable Communicable Diseases

By the authority vested in me as President by the Constitution and the laws of the United States of America, including section 361(b) of the Public Health Service Act (42 U.S.C. 264(b)), it is hereby ordered as follows:

Section 1. Based upon the recommendation of the Secretary of Health and Human Services, in consultation with the Surgeon General, and for the purpose set forth in section 1 of Executive Order 13295 of April 4, 2003, section 1 of such order is amended by adding at the end thereof the following new subsection:

“(c) Influenza caused by novel or reemergent influenza viruses that are causing, or have the potential to cause, a pandemic.”.

Sec. 2. This order is not intended to, and does not, create any right or benefit, substantive or procedural, enforceable at law or in equity by any party against the United States, its departments, agencies, entities, officers, employees or agents, or any other person.

B

THE WHITE HOUSE,

April 1, 2005.

[FR Doc. 05-6907

Filed 4-4-05; 10:49 am]

Billing code 3195-01-P